DEPARTMENT OF THE INTERIOR

Bureau of Land Management

[WY-050-2822-JL-T357]

Notice of Emergency Closure of Public Lands to Motorized Vehicle Use

AGENCY: Bureau of Land Management, Interior (BLM).

ACTION: Notice of emergency closure of certain public lands located in Fremont County, Wyoming to all types of motor vehicle use.

SUMMARY: 43 CFR Subpart 8364—Closure and Restrictions, 8364.1 (a) states: “To protect persons, property, and public lands and resources, the authorized officer may issue an order to close or restrict use of designated public lands.” In coordination with the USDA Shoshone National Forest, Washakie Ranger District, the Wyoming Game and Fish Department, Lander Regional Office, and The Nature Conservancy, Red Canyon Ranch, the Lander Field Manager issued an order on September 10, 2002 closing all BLM-administered public land surface, including existing roads and two-tracks, within the perimeter of the Pass Creek Fire to all types of motorized vehicle travel (e.g., all-terrain vehicles, pickups, motorcycles, sport utility vehicles, snowmobiles, etc.). The action affects public lands located within the Pass Creek Fire. This action is necessary for the protection of watershed resources and to assure adequate time to allow for the rehabilitation of the burned area. No motorized vehicle travel into these areas will be allowed, including the retrieval of big game, unless specifically authorized (in writing) by the authorized officer (BLM Lander Field Manager). The following acts are exempt from this action: (1) Access within the area by other means (e.g., foot or horseback); (2) persons with a BLM permit or contract specifically authorizing motor vehicle use; (3) owners or lessees of land in the area; and (4) any federal, state, or local officer, or member of an organized rescue or fire fighting force in the performance of an official duty. Extension of the closure order may occur if it is determined that the rehabilitation of the burned area has not been successful. Once rehabilitation of the burned area is determined to be successful, motorized vehicle access is limited to designated roads and two-tracks, as described in the Lander Resource Management Plan (RMP) Record Of Decision (ROD) dated June, 9, 1987.

DATES: This emergency closure will be effective immediately and will remain in effect until September 10, 2004.

FOR FURTHER INFORMATION CONTACT: Ray Hanson, Outdoor Recreation Planner, Bureau of Land Management, 1335 Main Street, P.O. Box 589, Lander, Wyoming, 82520; or contact by phone at 307-332-8420.

SUPPLEMENTARY INFORMATION: The BLM Lander Field Office is responsible for management of public lands within Fremont County. The management of these lands is addressed in the Lander RMP ROD, which was signed June, 9, 1987. The Pass Creek Fire started on August 24, 2002 and burned 13,433 acres, 4,725 acres of which are public lands. It was declared controlled on September 10, 2002. This Emergency Closure is necessary to protect the watershed and allow adequate time for the rehabilitation of the burned area within the Pass Creek Fire.

The following BLM-administered lands are included in this emergency closure: 4,725 acres of BLM-administered public land within the Pass Creek Fire.

Maps of this emergency closure area will be posted with this notice at key locations that provide access into the emergency closure area, as well as at the Lander Field Office, 1335 Main Street, Lander, Wyoming 82520.

Authority for the closure order is provided in regulations 43 CFR Subpart 8364—Closure and Restrictions, 8364.1 (a).
Dated: September 10, 2002.
Jack Kelly,
Field Manager.

[FR Doc. 03-4179 Filed 2-20-03; 8:45 am]

BILLING CODE 4310-$$-P